DEPARTMENT OF COMMERCE

Foreign-Trade Zones Board

(Docket 37-2008)

Foreign-Trade Zone 106 -- Oklahoma City, Oklahoma, Application for Manufacturing Authority, Industrial Gasket, Inc./International Group (Metal Fabrication)

An application has been submitted to the Foreign-Trade Zones Board (the Board) by the Port Authority of the Greater Oklahoma City Area, grantee of Foreign-Trade Zone (FTZ) 106, requesting manufacturing authority on behalf of Industrial Gasket, Inc. (dba International Group) (IG) at the company's facility within Proposed Site 14 of FTZ 106 in Mustang, Oklahoma (FTZ Docket 36-2008). The application was submitted pursuant to the provisions of the Foreign-Trade Zones Act, as amended (19 U.S.C. 81a-81u), and the regulations of the Board (15 CFR Part 400). It was formally filed on May 28, 2008.

The IG facility (26 employees) is located at 720 South Sara Road, in Mustang, and includes one 60,000 sq. ft. building. The facility is used for manufacturing activity involving metal fabrication, stamping, machining, welding and assembly activities of customized gaskets, seals and stamping products comprised of various metals and rubber materials. IG is requesting to manufacture industrial electric lighting fixtures and certain motor vehicles parts (tubing, flanges, seals, instrument panel assemblies, electrical boxes) under FTZ procedures (HTSUS 8708.99, 9405.40), with duty rates of 2.5 to 6 percent. At full capacity the facility could manufacture up to 5,250,000 units annually. Materials sourced from abroad (approximately 25 percent of the value of the finished product) include: spring and lock washers (7318.21); aluminum bars, rods and profiles (7604.10); aluminum plates, sheets and strip (7606.11); aluminum tubes and pipes (7608.10); and, zinc bars, rods, profiles and wire (7904.00) (duty rates: duty-free to 5.8 percent).

FTZ procedures would exempt IG from customs duty payments on the foreign components used in export production. Approximately 25 percent of production could be exported. On domestic sales, the company could choose the lower duty rate that applies to the finished product (2.5 to 6 percent) for the imported components used in manufacturing. The majority of IG's savings will come from the elimination of duties on materials that become scrap/waste during manufacturing. IG may also realize savings related to direct delivery and weekly customs entry procedures. The application indicates that the savings from FTZ procedures would help improve the facility's international competitiveness.

In accordance with the Board's regulations, Christopher Kemp of the FTZ staff is designated examiner to investigate the application and report to the Board.

Public comment is invited from interested parties. Submissions (original and 3 copies) shall be addressed to the Board's Executive Secretary at the address listed below. The closing period for their receipt is August 4, 2008. Rebuttal comments in response to material submitted during the foregoing period may be submitted during the subsequent 15-day period (to August 18, 2008).

A copy of the application and accompanying exhibits will be available at each of the following addresses: U. S. Department of Commerce Export Assistance Center, 301 N.W. 63rd Street, Suite 330, Oklahoma City, Oklahoma 73116; and, Office of the Executive Secretary, Foreign-Trade Zones Board, Room 2111, U.S. Department of Commerce, 1401 Constitution Avenue, NW, Washington, D.C., 20230. For further information contact Christopher Kemp at christopher_kemp@ita.doc.gov or (202) 482-0862.

Dated: May 28, 2008.
Pierre V. Duy,
Acting Executive Secretary.

[FR Doc. E8-12463 Filed 6-3-08; 8:45 am]

BILLING CODE 3510-DS-S